DEPARTMENT OF COMMERCE

Foreign-Trade Zones Board

[Docket 41-2009]

Foreign-Trade Zone 158—Vicksburg/Jackson, MS; Amendment to Application for Subzone; Max Home, LLC (Upholstered Furniture); Fulton and Iuka, MS

A request has been submitted to the Foreign-Trade Zones Board (the Board) by the Greater Mississippi Foreign-Trade Zone, Inc. (GMFTZ), grantee of FTZ 158, to amend its application requesting special-purpose subzone status for the upholstered furniture manufacturing facilities of Max Home, LLC (Max Home), located in Fulton and Iuka, Mississippi. The application was docketed under 41-2009 on October 6, 2009 (74 FR 52454, 10-13-09).

GMFTZ is now requesting to add a third site to the proposed subzone plan. The additional manufacturing plant and warehouse (100 employees/26 acres/160,000 sq. ft.) are located at 1313 Sandlin Road, Fulton, Mississippi. The facility will be used to produce cut-and-sewn upholstery covers and finished upholstered furniture (chairs, seats, sofas, sleep sofas, and sectionals). The additional production capacity at the new site in Fulton would add 100,000 pieces to the applicant's proposed scope of authority (new total capacity—270,000 pieces annually).

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is April 16, 2010. Rebuttal comments in response to material submitted during the foregoing period may be submitted during the subsequent 15-day period to May 3, 2010.

A copy of the application amendment will be available for public inspection at the Office of the Foreign-Trade Zones Board's Executive Secretary at the address listed above and in the “Reading Room” section of the Board's Web site, which is accessible via http://www.trade.gov/ftz. For further information, contact Pierre Duy at Pierre.Duy@trade.gov or (202) 482-1378.

Dated: March 12, 2010.
Andrew McGilvray,
Executive Secretary.

[FR Doc. 2010-5820 Filed 3-16-10; 8:45 am]

BILLING CODE P